DEPARTMENT OF ENERGY

Federal Energy Regulatory Commission

Combined Notice of Filings

Take notice that the Commission has received the following Natural Gas Pipeline Rate and Refund Report filings:

Filings Instituting Proceedings

Docket Numbers: RP16-65-000.

Applicants: Texas Eastern Transmission, LP.

Description: § 4(d) Rate Filing: PCB TETLP DEC 2015 FILING to be effective 12/1/2015.

Filed Date: 10/21/15.

Accession Number: 20151021-5080.

Comments Due: 5 p.m. ET 11/2/15.

Docket Numbers: RP16-66-000.

Applicants: ANR Pipeline Company.

Description: ANR Pipeline Company Request for Waiver of FERC Gas Tariff Part 6.3 of the General Terms & Conditions.

Filed Date: 10/21/15.

Accession Number: 20151021-5156.

Comments Due: 5 p.m. ET 11/2/15.

Docket Numbers: RP16-67-000.

Applicants: Algonquin Gas Transmission, LLC.

Description: § 4(d) Rate Filing: KeySpan Ramapo 11-1-2015 Release to BUG to be effective 11/1/2015.

Filed Date: 10/23/15.

Accession Number: 20151023-5073.

Comments Due: 5 p.m. ET 11/4/15.

Docket Numbers: RP16-68-000.

Applicants: Texas Eastern Transmission, LP.

Description: § 4(d) Rate Filing: Negotiated Rate—Chevron TEAM2014 Release to Sequent 8938592 to be effective 11/1/2015.

Filed Date: 10/23/15.

Accession Number: 20151023-5096.

Comments Due: 5 p.m. ET 11/4/15.

Docket Numbers: RP16-69-000.

Applicants: Clear Creek Storage Company, L.L.C.

Description: Compliance filing Clear Creek Storage Company, L.L.C.—Order No. 801 Compliance Filing to be effective 11/23/2015.

Filed Date: 10/23/15.

Accession Number: 20151023-5163.

Comments Due: 5 p.m. ET 11/4/15.

Docket Numbers: RP16-70-000.

Applicants: Exelon Generating Company, LLC, Summit Natural Gas of Maine.

Description: Joint Petition of Exelon Generating Company, LLC and Summit Natural Gas of Maine, Inc. for Limited Waivers and Clarification under RP16-70.

Filed Date: 10/23/15.

Accession Number: 20151023-5264.

Comments Due: 5 p.m. ET 11/4/15.

Docket Numbers: RP16-71-000.

Applicants: Trailblazer Pipeline Company LLC.

Description: § 4(d) Rate Filing: Neg Rate 2015-10-23 Twin Eagle & Tenaska Extension w HK to be effective 11/1/2015.

Filed Date: 10/23/15.

Accession Number: 20151023-5329.

Comments Due: 5 p.m. ET 11/4/15.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP14-247-000.

Applicants: Sea Robin Pipeline Company, LLC.

Description: Report Filing: RP14-247 Rate Case Refund Report.

Filed Date: 10/23/15.

Accession Number: 20151023-5115.

Comments Due: 5 p.m. ET 11/4/15.

Docket Numbers: RP16-41-001.

Applicants: Iroquois Gas Transmission System, L.P.

Description: Tariff Amendment: 10/23/15 Negotiated Rates—Emera Energy Services, Inc. (RTS) 2715-24 & -25 AMND to be effective 11/1/2015.

Filed Date: 10/23/15.

Accession Number: 20151023-5261.

Comments Due: 5 p.m. ET 11/4/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 26, 2015.
Nathaniel J. Davis, Sr.,
Deputy Secretary.

[FR Doc. 2015-27844 Filed 10-30-15; 8:45 am]

BILLING CODE 6717-01-P